DEPARTMENT OF TRANSPORTATION

Federal Aviation Administration

14 CFR Part 39

[Docket No. FAA-2024-2324; Project Identifier AD-2024-00514-T; Amendment 39-22861; AD 2024-20-02]

RIN 2120-AA64

Airworthiness Directives; The Boeing Company Airplanes

AGENCY: Federal Aviation Administration (FAA), DOT.

ACTION: Final rule; request for comments.

SUMMARY: The FAA is adopting a new airworthiness directive (AD) for all The Boeing Company Model 717-200 airplanes and Model DC-9-10, DC-9-20, DC-9-30, DC-9-40, and DC-9-50 series airplanes. This AD was prompted by a report of cracked and severed structure found in the aft fuselage cant bulkhead at a certain station (STA) and the vertical stabilizer rear spar installation. This AD requires a one-time inspection of the aft fuselage cant bulkhead at certain STAs and vertical stabilizer rear spar structure, and corrective actions and an inspection report if necessary. This AD also requires an inspection of that same structure if certain conditions occur during any phase of flight. The FAA is issuing this AD to address the unsafe condition on these products.

DATES: This AD is effective October 21, 2024.

The Director of the Federal Register approved the incorporation by reference of certain publications listed in this AD as of October 21, 2024.

The FAA must receive comments on this AD by November 18, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov by searching for and locating Docket No. FAA-2024-2324; or in person at Docket Operations between 9 a.m. and 5 p.m., Monday through Friday, except Federal holidays. The AD docket contains this final rule, any comments received, and other information. The street address for Docket Operations is listed above.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2024-2324.

FOR FURTHER INFORMATION CONTACT: Wayne Ha, Aviation Safety Engineer, FAA, 2200 South 216th St., Des Moines, WA 98198; phone: 562-627-5238; email: Wayne.Ha@faa.gov.

SUPPLEMENTARY INFORMATION:

Comments Invited

The FAA invites you to send any written data, views, or arguments about this final rule. Send your comments to an address listed under the ADDRESSES section. Include Docket No. FAA-2024-2324 and Project Identifier AD-2024-00514-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Wayne Ha, Aviation Safety Engineer, FAA, 2200 South 216th St., Des Moines, WA 98198; phone: 562-627-5238; email: Wayne.Ha@faa.gov. Any commentary that the FAA receives that is not specifically designated as CBI will be placed in the public docket for this rulemaking.

Background

The FAA has received a report indicating cracked and severed structure was found in the aft fuselage cant bulkhead at STA 1178.225 and vertical stabilizer rear spar installation, on a Boeing Model 717-200 airplane. The cant bulkhead and vertical stabilizer rear spar structure on Boeing Model DC-9-10, DC-9-20, DC-9-30, DC-9-40, and DC-9-50 series airplanes are similar to that of the Model 717-200 airplane and therefore are susceptible to cracking. This condition, if not addressed, could result in reduced structural integrity of the airplane. The FAA is issuing this AD to address the unsafe condition on these products.

FAA's Determination

The FAA is issuing this AD because the agency has determined the unsafe condition described previously is likely to exist or develop in other products of the same type design.

Material Incorporated by Reference Under 1 CFR Part 51

The FAA reviewed Boeing Multi Operator Message MOM-MOM-24-0457-01B(R1) and Boeing Multi Operator Message MOM-MOM-24-0456-01B(R1), both dated September 4, 2024. These documents are distinct since they apply to different airplane models. This material specifies procedures for a one-time detailed inspection of the aft fuselage cant bulkhead (at STA 1178.225 for Model 717-200 airplanes, STA 942.225 for Model DC-9-10 and DC-9-20 series airplanes, STA 1121.225 for Model DC-9-30 series airplanes, STA 1197.225 for Model DC-9-40 series airplanes, and STA 1292.225 for Model DC-9-50 series airplanes) and vertical stabilizer rear spar structure for any crack and, if any crack is found during the detailed inspection, obtaining and following approved repair instructions. This material is reasonably available because the interested parties have access to it through their normal course of business or by the means identified in the ADDRESSES section.

AD Requirements

This AD requires accomplishing the actions specified in the material already described. This AD also requires sending the inspection findings to the airplane manufacturer if any crack is found during the one-time detailed inspection. This AD also requires a detailed inspection of the cant bulkhead (at STA 1178.225 for Model 717-200 airplanes, STA 942.225 for Model DC-9-10 and DC-9-20 series airplanes, STA 1121.225 for Model DC-9-30 series airplanes, STA 1197.225 for Model DC-9-40 series airplanes, and STA 1292.225 for Model DC-9-50 series airplanes), left and right sides, between longerons 11L through 11R at the forward and aft surfaces; upper cap; upper (cap) doubler; bulkhead webs and doublers; stiffeners; lower tee cap and strap; and vertical stabilizer rear spar cap and web for any discrepancy, if any of the following conditions occur during any phase of flight: (1) high drag/side loads or unusual ground handling, (2) a hard or overweight landing, (3) severe turbulence (or rough air (turbulence)) or an excessive maneuver, or (4) high compressive loads to the hydraulic tail bumper/strut (for Model 717-200 airplanes) or auxiliary gear (tail bumper) (for Model DC-9-10, DC-9-20, DC-9-30, DC-9-40, and DC-9-50 series airplanes). A discrepancy includes buckles, distortion, cracks, loose or missing fasteners, or any other obvious indication of damage.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because cracked and severed structure in the aft fuselage cant bulkhead and vertical stabilizer rear spar, if not addressed, could result in reduced structural integrity of the airplane. Further, analysis has shown that an airplane with this unsafe condition is not capable of sustaining a limit load event, which would be catastrophic. Accordingly, notice and opportunity for prior public comment are impracticable and contrary to the public interest pursuant to 5 U.S.C. 553(b).

The compliance time in this AD is shorter than the time necessary for the public to comment and for publication of the final rule. In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 133 airplanes of U.S. registry. The FAA estimates the following costs to comply with this AD:

Estimated Costs
Action | Labor cost | Parts cost | Cost per product | Cost on U.S. operators
One-time inspection | 3 work-hours × $85 per hour = $255 | $0 | $255 | $33,915
Inspection due to certain conditions | 3 work-hours × $85 per hour = $255 | 0 | 255 | 33,915

The FAA estimates the following costs to do any necessary reporting that would be required based on the results of the inspection. The FAA has no way of determining the number of aircraft that might need this reporting:

On-Condition Costs
Action | Labor cost | Parts cost | Cost per product
Reporting | 1 work-hours × $85 per hour = $85 | $0 | $85

The FAA has received no definitive data on which to base the cost estimates for the on-condition repair specified in this AD.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-20-02 The Boeing Company: Amendment 39-22861; Docket No. FAA-2024-2324; Project Identifier AD-2024-00514-T.

(a) Effective Date

This airworthiness directive (AD) is effective October 21, 2024.

(b) Affected ADs

None.

(c) Applicability

This AD applies to all The Boeing Company airplanes identified in paragraphs (c)(1) through (6) of this AD, certificated in any category.

(1) Model 717-200 airplanes.

(2) Model DC-9-11, DC-9-12, DC-9-13, DC-9-14, DC-9-15, and DC-9-15F airplanes.

(3) Model DC-9-21 airplanes.

(4) Model DC-9-31, DC-9-32, DC-9-32 (VC-9C), DC-9-32F, DC-9-32F (C-9A, C-9B), DC-9-33F, DC-9-34, and DC-9-34F airplanes.

(5) Model DC-9-41 airplanes.

(6) Model DC-9-51 airplanes.

(d) Subject

Air Transport Association (ATA) of America Code 53, Fuselage.

(e) Unsafe Condition

This AD was prompted by a report of cracked and severed structure found in the aft fuselage cant bulkhead at station (STA) 1178.225 and vertical stabilizer rear spar installation. The FAA is issuing this AD to address cracked and severed structure in the aft fuselage cant bulkhead and vertical stabilizer rear spar. The unsafe condition, if not addressed, could result in reduced structural integrity of the airplane.

(f) Compliance

Comply with this AD within the compliance times specified, unless already done.

(g) One-Time Inspection

Within 45 days after the effective date of this AD, do a detailed inspection of the cant bulkhead and vertical stabilizer rear spar structure for any crack, in accordance with table 1 of the applicable material identified in paragraph (g)(1) or (2) of this AD.

(1) For Model 717-200 airplanes: Boeing Multi Operator Message MOM-MOM-24-0457-01B(R1), dated September 4, 2024.

(2) For Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, DC-9-34F, DC-9-41, and DC-9-51 airplanes: Boeing Multi Operator Message MOM-MOM-24-0456-01B(R1), dated September 4, 2024.

(h) Repair for One-Time Inspection

If any crack is found during the detailed inspection required by paragraph (g) of this AD, repair the crack before further flight using a method approved in accordance with the procedures specified in paragraph (o) of this AD.

(i) Definitions

For the purposes of paragraphs (j) through (m) of this AD, the following terms are defined as follows.

(1) A “detailed inspection” is an intensive visual examination of a specific structural area, system, installation, or assembly to detect damage, failure, or irregularity. Available lighting is normally supplemented with a direct source of good lighting at an intensity deemed appropriate by the inspector. Inspection aids such as mirrors, magnifying lenses, etc. may be used. Surface cleaning and elaborate access procedures may be required.

(2) A “discrepancy” includes buckles, distortion, cracks, loose or missing fasteners, or any other obvious indication of damage.

(3) A “high drag/side load or unusual ground handling” condition is a result of one or more of the pilot-reported conditions specified in paragraphs (i)(3)(i) through (iv) of this AD.

(i) Skid or over-run from a prepared surface to an unprepared surface.

(ii) Landing short of the prepared surface.

(iii) Landing with two or more tires deflated.

(iv) Ground operations of a heavy aircraft during push back, prior to takeoff or after landing on unstable surface conditions like ice, snow, mud, soft pavement, or sand.

(4) A “hard landing” is when an aircraft touches down on the runway with more force or velocity than is considered normal or desirable.

(5) An “overweight landing” is a landing at a weight that is more than the maximum certificated landing weight.

(6) “Severe turbulence” or “rough air (turbulence)” is turbulence (including gusts) that can result in abnormal and abrupt changes in aircraft altitude, attitude, and airspeed.

(7) An “excessive maneuver” is a maneuver that results in severe and abnormal aircraft altitude or attitude changes due to rapid or large flight control inputs, i.e. control column, rudder pedals, or control wheel.

(8) “High compressive loads to the hydraulic tail bumper/strut” or “high compressive loads to the auxiliary gear (tail bumper)” is any loading event, such as a tail strike, tail skid, etc., that has the potential to move the indicating pin of the hydraulic tail bumper/strut or auxiliary gear (tail bumper) to the vertical position.

(j) Report for One-Time Inspection Findings

If any crack is found during the detailed inspection required by paragraph (g) of this AD, at the applicable time specified in paragraph (j)(1) or (2) of this AD, submit a report of positive findings to The Boeing Company via the Boeing Communication System (BCS). The report must include the crack size, crack location, and whether or not airplane maintenance records show any unscheduled maintenance checks due to severe turbulence or an excessive maneuver, high drag/side loads or unusual ground handling, a hard or overweight landing, or high compressive loads to the hydraulic tail bumper/strut or auxiliary gear (tail bumper).

(1) If the inspection was done on or after the effective date of this AD: Submit the report within 10 days after the inspection.

(2) If the inspection was done before the effective date of this AD: Submit the report within 10 days after the effective date of this AD.

(k) Conditional Inspections for Model 717-200 Airplanes

As of 45 days after the effective date of this AD: If a Model 717-200 airplane experiences high drag/side loads or unusual ground handling, a hard or overweight landing, severe turbulence or an excessive maneuver, or high compressive loads to the hydraulic tail bumper/strut: Do a detailed inspection of the cant bulkhead at STA 1178.225, left and right sides, between longerons 11L through 11R at the forward and aft surfaces; upper cap; upper (cap) doubler; bulkhead webs and doublers; stiffeners; lower tee cap and strap; and vertical stabilizer rear spar cap and web for any discrepancy.

Note 1 to paragraph (k): Guidance for doing the inspection required by paragraph (k) of this AD due to high drag/side loads or unusual ground handling can be found in Subtask 05-51-03-210-005, steps (9) and (9)(a), of Boeing 717 Aircraft Maintenance Manual (AMM) Temporary Revision 05-1003, High Drag/Side Loads or Unusual Ground Handling Conditions—Inspection/Check, dated September 10, 2024.

Note 2 to paragraph (k): Guidance for doing the inspection required by paragraph (k) of this AD due to a hard or overweight landing can be found in Subtask 05-51-04-210-028, steps (6)(a) and (6)(a)(1), of Boeing 717 AMM Temporary Revision 05-1004, Hard or Overweight Landing—Inspection/Check, dated September 10, 2024.

Note 3 to paragraph (k): Guidance for doing the inspection required by paragraph (k) of this AD due to severe turbulence or an excessive maneuver can be found in Subtask 05-51-02-210-005, steps (6)(a) and (6)(a)(1), of Boeing 717 AMM Temporary Revision 05-1005, Severe Turbulence or Excessive Maneuver Conditions—Inspection/Check, dated September 10, 2024.

Note 4 to paragraph (k): Guidance for doing the inspection required by paragraph (k) of this AD due to high compressive loads to the hydraulic tail bumper/strut can be found in Subtask 32-71-04-211-001, step (2), of Boeing 717 AMM Temporary Revision 32-1001, Hydraulic Tail Bumper—Inspection/Check, dated September 13, 2024.

(l) Conditional Inspections for Model DC-9-10, DC-9-20, DC-9-30, DC-9-40, and DC-9-50 Series Airplanes

As of 45 days after the effective date of this AD: If a Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, DC-9-34F, DC-9-41, or DC-9-51 airplane experiences high drag/side loads or unusual ground handling, a hard or overweight landing, an excessive maneuver or rough air (turbulence), or high compressive loads to the auxiliary gear (tail bumper): Do a detailed inspection of the cant bulkhead at the applicable STA specified in table 1 to paragraph (l) of this AD, left and right sides, between longerons 11L through 11R at the forward and aft surfaces; upper cap; upper (cap) doubler; bulkhead webs and doublers; stiffeners; lower tee cap and strap; and vertical stabilizer rear spar cap and web for any discrepancy.

Table 1 to Paragraph (l)—Applicable STA
Model | Paragraph (l) of this AD
DC-9-11, DC-9-12, DC-9-13, DC-9-14, DC-9-15, DC-9-15F, and DC-9-21 airplanes | STA 942.225
DC-9-31, DC-9-32, DC-9-32 (VC-9C), DC-9-32F, DC-9-32F (C-9A, C-9B), DC-9-33F, DC-9-34, and DC-9-34F airplanes | STA 1121.225
DC-9-41 airplanes | STA 1197.225
DC-9-51 airplanes | STA 1292.225

Note 5 to paragraph (l): For Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, and DC-9-34F airplanes, guidance for doing the inspection required by paragraph (l) of this AD due to high drag/side loads or unusual ground handling can be found in paragraph 6.A(3), step E(4), of Boeing DC-9 AMM Temporary Revision 5-147, dated September 9, 2024. Although that material does not specify the applicable STA location for Model DC-9-41 and DC-9-51 airplanes, guidance for doing the inspection required by paragraph (l) of this AD due to high drag/side loads or unusual ground handling for those airplanes can be found in that material, and the applicable STA can be found in table 1 to paragraph (l) of this AD.

Note 6 to paragraph (l): For Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, and DC-9-34F airplanes, guidance for doing the inspection required by paragraph (l) of this AD due to a hard or overweight landing can be found in paragraph 2.B(2), table 601, step B(5), of Boeing DC-9 AMM Temporary Revision 5-147, dated September 9, 2024. Although that material does not specify the applicable STA location for Model DC-9-41 and DC-9-51 airplanes, guidance for doing the inspection required by paragraph (l) of this AD due to a hard or overweight landing for those airplanes can be found in that material, and the applicable STA can be found in table 1 to paragraph (l) of this AD.

Note 7 to paragraph (l): For Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, and DC-9-34F airplanes, guidance for doing the inspection required by paragraph (l) of this AD due to excessive maneuver or rough air (turbulence) can be found in paragraph 5.A(2), step B(8), of Boeing DC-9 AMM Temporary Revision 5-147, dated September 9, 2024. Although that material does not specify the applicable STA location for Model DC-9-41 and DC-9-51 airplanes, guidance for doing the inspection required by paragraph (l) of this AD due to excessive maneuver or rough air (turbulence) for those airplanes can be found in that material, and the applicable STA can be found in table 1 to paragraph (l) of this AD.

Note 8 to paragraph (l): For Model DC-9-11, DC-9-12, DC-9-13, DC-9-14, DC-9-15, DC-9-15F, DC-9-21, DC-9-31, DC-9-32, DC-9-32 (VC-9C), DC-9-32F, DC-9-32F (C-9A, C-9B), DC-9-33F, DC-9-34, and DC-9-34F airplanes, guidance for doing the inspection required by paragraph (l) of this AD due to high compressive loads to the auxiliary gear (tail bumper) can be found in paragraph 5.B(2) or (4), as applicable, of Boeing DC-9 AMM Temporary Revision 32-687, dated September 13, 2024. Although that material does not specify the applicable STA location for Model DC-9-41 and DC-9-51 airplanes, guidance for doing the inspection required by paragraph (l) of this AD due to high compressive loads to the auxiliary gear (tail bumper) for those airplanes can be found in that material, and the applicable STA can be found in table 1 to paragraph (l) of this AD.

(m) Repair for Conditional Inspections

If any discrepancy is found during any inspection required by paragraph (k) or (l) of this AD, repair the discrepancy before further flight using a method approved in accordance with the procedures specified in paragraph (o) of this AD.

(n) Credit for Previous Actions

This paragraph provides credit for the corresponding inspections specified in paragraph (g) of this AD, if those actions were performed before the effective date of this AD in accordance with Boeing Multi Operator Message MOM-MOM-24-0456-01B, dated September 3, 2024; or Boeing Multi Operator Message MOM-MOM-24-0457-01B, dated September 3, 2024; as applicable.

(o) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (p)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(p) Related Information

(1) For more information about this AD, contact Wayne Ha, Aviation Safety Engineer, FAA, 2200 South 216th St., Des Moines, WA 98198; phone: 562-627-5238; email: Wayne.Ha@faa.gov.

(2) Material identified in this AD that is not incorporated by reference is available at the address specified in paragraph (q)(3) of this AD.

(q) Material Incorporated by Reference

(1) The Director of the Federal Register approved the incorporation by reference of the material listed in this paragraph under 5 U.S.C. 552(a) and 1 CFR part 51.

(2) You must use this material as applicable to do the actions required by this AD, unless the AD specifies otherwise.

(i) Boeing Multi Operator Message MOM-MOM-24-0456-01B(R1), dated September 4, 2024.

(ii) Boeing Multi Operator Message MOM-MOM-24-0457-01B(R1), dated September 4, 2024.

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on September 27, 2024.
Peter A. White,
Deputy Director, Integrated Certificate Management Division, Aircraft Certification Service.

[FR Doc. 2024-23101 Filed 10-2-24; 4:15 pm]

BILLING CODE 4910-13-P